DEPARTMENT OF LABOR

Employment and Training Administration

[TA-W-39,172]

Celanese AG, Celanese Acetate Division, Rock Hill, SC; Dismissal of Application for Reconsideration

Pursuant to 29 CFR 90.18 (C) an application for administrative reconsideration was filed with the Director of the Division of Trade Adjustment Assistance for workers at Celanese AG, Celanese Acetate Division, Rock Hill, South Carolina. The application contained no new substantial information which would bear importantly on the Department's determination. Therefore, dismissal of the application was issued.

TA-W-39,172; Celanese AG, Celanese Acetate Division, Rock Hill, South Carolina (February 22, 2002)

Signed at Washington, D.C. this 1st day of March, 2002.
Edward A. Tomchick,
Director, Division of Trade Adjustment Assistance.

[FR Doc. 02-5576 Filed 3-7-02; 8:45 am]

BILLING CODE 4510-30-M